DEPARTMENT OF ENERGY

Federal Energy Regulatory Commission

[Docket No. CP00-434-000]

Columbia Gulf Transmission Company; Application

August 18, 2000.

Take notice that on August 9, 2000, Columbia Gulf Transmission Company (Columbia Gulf), 2603 Augusta, Suite 125, Houston, Texas 77057-5637, filed in Docket No. CP00-434-000 an application pursuant to Sections 7(c) and 7(b) of the Natural Gas Act for permission and approval for Columbia Gulf to construct and operate certain replacement natural gas facilities and to abandon the facilities being replaced due to the age and condition of the facilities, located in Powell County, Kentucky, all as more fully set forth in the application which is on file with the Commission and open to public inspection. This filing may be viewed on the web at http://www.ferc.fed.us/online/rims.htm (call 202-208-2222 for assistance).

Columbia Gulf proposes to construct and operate one 14,470 horsepower (HP) compressor unit and appurtenances and abandon one 12,050 HP compressor unit and appurtenances, located in Powell County, Kentucky.

Columbia Gulf states that the unit proposed for replacement, designated as Columbia Gulf's Unit 105, is part of their Stanton Compressor Station, which currently consists of six compressor units. Columbia Gulf asserts that the unit is a Pratt and Whitney GG3C-1 gas turbine unit with a rating of 12,050 HP, constructed and placed in service in 1964, under the authority granted in Docket No. CP64-1.

Columbia Gulf states that due to the age of the unit, replacement parts are not readily available, making repairs and maintenance difficult. Columbia declares that due to its age, obsolescence, and deterioration, replacement is required in order to ensure safe, reliable operation and service to Columbia Gulf's existing customers at current levels.

Columbia Gulf proposes to replace the existing compressor unit with a Solar Mars 100-T15000S turbine driven compressor unit, to be designated as Columbia Gulf's Unit 108, with a rating of 14,470 HP. Columbia Gulf asserts that the construction of the new unit will be within the existing compressor station site and the replacement will not change the design day/certificated capacity of 2,156,334 Mmcf/d winter, and 2,056,334 Mmcf/d summer.

Columbia Gulf states that the proposed construction is estimated to cost $13,000,000 and the associated net debit to accumulated provision for depreciation for the abandonment is $1,702,000. Columbia Gulf asserts that upon completion of the construction, the existing unit will be removed. Columbia Gulf states that the proposed age and condition replacement qualifies for rolled-in rate treatment under the Commission's Pricing Policy for New and Existing Facilities Constructed by Interstate Natural Gas Pipelines, 71 FERC Paragraph 61,241 (1995) (Pricing Policy Statement) as interpreted by the Commission in Columbia Gas Transmission Corp., 75 FERC Paragraph 61,158 (1996). Therefore, Columbia Gulf requests all project costs should be permitted rolled-in treatment in Columbia Gulf's next rate case.

Any questions regarding the application should be directed to Lee M. Beckett, Counsel at (713) 267-4741 (voice) and (713) 267-4755 (telecopier), Columbia Gulf Transmission Company, 2603 Augusta, Suite 125, Houston, Texas 77057-5637.

Any person desiring to be heard or to make any protest with reference to said Application should on or before September 8, 2000, file with the Federal Energy Regulatory Commission, 888 First Street, N.E., Washington, D.C. 20426, a motion to intervene or a protest in accordance with the requirements of the Commission's Rules of Practice and Procedure (18 CFR 385.211 or 18 CFR 385.214) and the Regulations under the Natural Gas Act (18 CFR 157.10). All protests filed with the Commission will be considered by it in determining the appropriate action to be taken but will not serve to make the protestants parties to the proceedings. Any person wishing to become a party to a proceeding or to participate as a party in any hearing therein must file a motion to intervene in accordance with the Commission's Rules.

Take further notice that pursuant to the authority contained in and subject to the jurisdiction conferred upon the Commission by Sections 7 and 15 of the Natural Gas Act and the Commission's Rules of Practice and Procedure, a hearing will be held without further notice before the Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Applicant to appear or be represented at the hearing.

David P. Boergers,
Secretary.

[FR Doc. 00-21604 Filed 8-23-00; 8:45 am]

BILLING CODE 6717-01-M